DEPARTMENT OF THE INTERIOR

Bureau of Land Management

[LLNVS00000 L19200000.ET0000 WBS LRORF1808700 MO# 4500154284]

Public Notice of Legal Land Description and Map Availability, Nevada Test and Training Range, Nevada

AGENCY: Bureau of Land Management, Interior.

ACTION: Notice.

SUMMARY: This notice constitutes official publication of the legal land description for the Nevada Test and Training Range in Nevada, which is withdrawn and reserved for military purposes.

DATES: The legal land description became effective on October 18, 2021.

ADDRESSES: Copies of the map are available for public review at the Bureau of Land Management, Nevada State Office, 1340 Financial Blvd., Reno, NV 89502, and the Bureau of Land Management, Southern Nevada District Office, 4701 North Torrey Pines Drive, Las Vegas, NV 89130-2301.

FOR FURTHER INFORMATION CONTACT: Eric Benavides, Realty Specialist, BLM Southern Nevada District Office, 4701 North Torrey Pines Dr., Las Vegas, NV 89130-2301; ebenavides@blm.gov. Persons who use a telecommunications device for the deaf (TDD) may call the Federal Relay Service (FRS) at 1-800-877-8339 to contact the above individual during normal business hours. The FRS is available 24 hours a day, seven days a week, to leave a message or question with the above individual. Replies are provided during normal business hours.

SUPPLEMENTARY INFORMATION: On January 1, 2021, Public Law 116-283, the National Defense Authorization Act (NDAA) for Fiscal Year 2021, was enacted. The NDAA under Title XXVIII, Subtitle E, Sec. 2843 extended the withdrawal of public land created by the Military Lands Withdrawal Act of 1999 (MLWA) (Title XXX of Public Law 106-65; 113 STAT. 885), as amended by Public Law 113-291 (128 STAT. 3878-3879), by establishing a termination date of November 6, 2046, for those lands withdrawn and reserved in section 3011(b) (113 STAT. 886) of the MLWA. Pursuant to section 3012 (113 STAT. 890) of the MLWA, this Notice advises the public of the official legal land description for the public lands withdrawn and reserved for use by the Secretary of the Air Force for military purposes. As the legal land description for the Nevada Test and Training Range was not published in the Federal Register following enactment of the MLWA, this Notice corrects that deficiency. The public lands withdrawn for the Nevada Test and Training Range are described as:

Mount Diablo Meridian, Nevada

Tps. 1 thru 4 S., R. 44 E.

T. 5 S., R. 44 E., partly unsurveyed,

Secs. 1 and 2, 10 thru 16 and 20 thru 36.

T. 6 S., R. 44 E., unsurveyed,

Secs. 1 thru 6, 8 thru 17, 21 thru 27, and 34 thru 36.

T. 7 S., R. 44 E., partly unsurveyed,

Secs. 1, 2, and 11 thru 13.

Tps. 1 thru 4 S., R. 45 E.

Tps. 5 and 6 S., R. 45 E., unsurveyed.

T. 7 S., R. 45 E., unsurveyed,

Secs. 1 thru 30 and 32 thru 36.

T. 8 S., R. 45 E., unsurveyed,

Secs. 1 thru 4, 10 thru 14, and 24 and 25.

Tps. 1 and 2 S., R. 46 E.

Tps. 3 thru 8 S., R. 46 E., unsurveyed.

T. 9 S., R. 46 E., unsurveyed,

Secs. 1 thru 5, 9 thru 15, and 23 and 24.

Tps. 1 and 2 S., R. 47 E.

Tps. 3 thru 8 S., R. 47 E., unsurveyed.

T. 9 S., R. 47 E., unsurveyed,

Secs. 1 thru 30 and 33 thru 36.

T. 10 S., R. 47 E., partly unsurveyed,

Secs. 1, 2, and 12.

Tps. 1 and 2 S., R. 48 E.

Tps. 3, 4, and 5 S., R. 48 E., unsurveyed.

T. 6 S., R. 48 E., unsurveyed,

Secs. 1 thru 34;

sec. 35, N½;

sec. 36, N½.

T. 7 S., R. 48 E., unsurveyed,

Secs. 3 thru 10 and 15 thru 23;

sec. 25, W½;

Secs. 26 thru 36.

Tps. 8 and 9 S., R. 48 E., unsurveyed.

T. 10 S., R. 48 E., unsurveyed,

Secs. 1 thru 17, 21 thru 26, and 36.

Tps. 1 and 2 S., R. 49 E.

Tps. 3, 4, and 5 S., R. 49 E., unsurveyed.

T. 6 S., R. 49 E., unsurveyed,

Secs. 1 thru 30;

Sec. 31, N1/2 and SE1/4;

Secs. 32 thru 36.

T. 7 S., R. 49 E., unsurveyed,

Secs. 1 thru 5;

Sec. 6, E1/2.

T. 8 S., R. 49 E., unsurveyed,

Sec. 6, W1/2;

Sec. 7;

Sec. 17, W1/2;

Secs. 18 thru 20 and 28 thru 33;

Sec. 34, W1/2.

T. 9 S., R. 49 E., unsurveyed,

Secs. 3 thru 11 and 14 thru 23;

Secs. 24 and 25, excepting those portions withdrawn by Public Land Order 2568;

Secs. 26 thru 35;

Sec. 36, excepting those portions withdrawn by Public Land Order 2568.

T. 10 S., R. 49 E., unsurveyed,

Sec. 1, excepting those portions withdrawn by Public Land Order 2568;

Secs. 2 thru 11;

Secs. 12 and 13, excepting those portions withdrawn by Public Land Order 2568;

Secs. 14 thru 23;

Secs. 24 and 25, excepting those portions withdrawn by Public Land Order 2568;

Secs. 26 thru 35;

Sec. 36, excepting those portions withdrawn by Public Land Order 2568.

T. 11 S., R. 49 E., unsurveyed,

Sec. 1, excepting those portions withdrawn by Public Land Order 2568;

Secs. 2 thru 11;

Secs. 12 and 13, excepting those portions withdrawn by Public Land Order 2568;

Secs. 14 thru 23;

Secs. 24 and 25, excepting those portions withdrawn by Public Land Order 2568;

Secs. 26 thru 35;

Sec. 36, excepting those portions withdrawn by Public Land Order 2568.

T. 12 S., R. 49 E., unsurveyed,

Sec. 1, excepting those portions withdrawn by Public Land Order 2568;

Secs. 2 thru 11;

Secs. 12 and 13, excepting those portions withdrawn by Public Land Order 2568;

Secs. 14 thru 23;

Secs. 24 and 25, excepting those portions withdrawn by Public Land Order 2568;

Secs. 26 thru 35;

Sec. 36, excepting those portions withdrawn by Public Land Order 2568.

Tps. 1 thru 5 S., R. 50 E., unsurveyed.

T. 6 S., R. 50 E., unsurveyed,

Secs. 1 thru 33.

T. 7 S., R. 50 E., unsurveyed,

Sec. 6.

Tps. 2 thru 5 S., R. 51 E., unsurveyed.

T. 6 S., R. 51 E., unsurveyed,

Secs. 1 thru 30 and 34 thru 36.

T. 7 S., R. 51 E., unsurveyed,

Sec. 1.

Tps. 3 and 4 S., R. 51 ½ E., unsurveyed.

Tps. 3 thru 6 S., R. 52 E., unsurveyed.

T. 7 S., R. 52 E., unsurveyed,

Secs. 1 thru 16, 21 thru 28, and 33 thru 36.

T. 8 S., R. 52 E., unsurveyed,

Secs. 1 thru 4;

Secs. 9 thru 12, excepting those portions withdrawn by Public Land Order 805.

Tps. 3 and 4 S., R. 53 E.

Tps. 5, 6, and 7 S., R. 53 E., unsurveyed.

T. 8 S., R. 53 E., unsurveyed,

Secs. 1 thru 6;

Secs. 7 thru 12, excepting those portions withdrawn by Public Land Order 805.

T. 3 S., R. 54 E.,

Secs. 4 thru 9, 16 thru 21, and 28 thru 33.

T. 4 S., R. 54 E.,

Secs. 4 thru 9, 16 thru 21, and 28 thru 33.

Tps. 5, 6, and 7 S., R. 54 E., unsurveyed.

T. 8 S., R. 54 E., unsurveyed,

Secs. 1 thru 6;

Secs. 7 thru 11, excepting those portions withdrawn by Public Land Order 805;

Secs. 12 and 13;

Secs. 14 and 23, excepting those portions withdrawn by Public Land Order 805;

Secs. 24 and 25;

Secs. 26 and 35, excepting those portions withdrawn by Public Land Order 805;

Sec. 36.

T. 9 S., R. 54 E., unsurveyed,

Sec. 1;

Secs. 2 and 11, excepting those portions withdrawn by Public Land Order 805;

Secs. 12 and 13;

Secs. 14 and 23, excepting those portions withdrawn by Public Land Order 805;

Secs. 24 and 25;

Secs. 26 and 35, excepting those portions withdrawn by Public Land Order 805;

Sec. 36.

T. 10 S., R. 54 E., unsurveyed,

Sec. 1;

Secs. 2 and 11, excepting those portions withdrawn by Public Land Order 805;

Secs. 12 and 13;

Secs. 14 and 23, excepting those portions withdrawn by Public Land Order 805;

Secs. 24 and 25;

Secs. 26 and 35, excepting those portions withdrawn by Public Land Order 805;

Sec. 36.

T. 11 S., R. 54 E., unsurveyed,

Sec. 1;

Secs. 2 and 11, excepting those portions withdrawn by Public Land Order 805;

Secs. 12 and 13;

Secs. 14 and 23, excepting those portions withdrawn by Public Land Order 805;

Secs. 24 and 25;

Secs. 26 and 35, excepting those portions withdrawn by Public Land Order 805;

Sec. 36.

T. 12 S., R. 54 E., unsurveyed,

Sec. 1;

Secs. 2 and 11, excepting those portions withdrawn by Public Land Order 805;

Secs. 12 and 13;

Secs. 14 and 23, excepting those portions withdrawn by Public Land Order 805;

Secs. 24 and 25;

Secs. 26 and 35, excepting those portions withdrawn by Public Land Order 805;

Sec. 36.

T. 13 S., R. 54 E., unsurveyed,

Sec. 9, excepting those portions withdrawn by Public Land Order 805;

Secs. 10 thru 15;

Secs. 16 and 21, excepting those portions withdrawn by Public Land Order 805;

Secs. 22 thru 27;

Secs. 28 and 33, excepting those portions withdrawn by Public Land Order 805;

Secs. 34 thru 36.

T. 14 S., R. 54 E., unsurveyed,

Secs. 1 thru 3;

Secs. 4 and 9, excepting those portions withdrawn by Public Land Order 805;

Secs. 10 thru 15;

Secs. 16 and 21, excepting those portions withdrawn by Public Land Order 805;

Secs. 22 thru 27;

Secs. 28 and 33, excepting those portions withdrawn by Public Land Order 805;

Secs. 34 thru 36.

Tps. 5 thru 14 S., R. 55 E., unsurveyed.

T. 5 S., R. 55 ½ E., unsurveyed,

Secs. 6 thru 8, 16 thru 21, and 28 thru 33.

Tps. 6 thru 15 S., R. 55 ½ E., unsurveyed.

T. 16 S., R. 55 ½ E.,

Sec. 1, N1/2;

Sec. 2, lots 1 and 2, and NE1/4.

T. 5 S., R. 56 E., unsurveyed,

Secs. 19 and 20 and 27 thru 35.

T. 6 S., R. 56 E., partly unsurveyed,

Secs. 2 thru 11, 14 thru 23, and 25 thru 36.

T. 7 S., R. 56 E., partly unsurveyed,

Secs. 1 thru 11;

Sec. 13, W1/2;

Secs. 14 thru 23;

Sec. 24, NW1/4;

Secs. 26 thru 35.

Tps. 8 thru 14 S., R. 56 E., unsurveyed.

T. 15 S., R. 56 E.

T. 16 S., R. 56 E.,

Secs. 1 thru 6;

Sec. 8, lot 1;

Sec. 9, lot 1;

tracts 38, 39, 40, and 41;

tract 42, lots A, B, and C.

T. 6 S., R. 57 E.,

Sec. 30, lots 1 thru 4, E1/2NW1/4, and E1/2SW1/4;

Sec. 31.

T. 7 S., R. 57 E.,

Sec. 6.

Tps. 8 thru 15 S., R. 57 E., unsurveyed.

T. 16 S., R. 57 E., partly unsurveyed,

Secs. 1 thru 6;

Sec. 7, NE1/4;

Secs. 8 thru 16;

Sec. 17, NE1/4;

Sec. 20, SE1/4SW1/4, and S1/2SE1/4;

Secs. 21 thru 26;

Sec. 27, NE1/4;

Sec. 28, NW1/4NW1/4;

Sec. 29, N1/2NE1/4, and NE1/4NW1/4;

Sec. 35, NE1/4;

Sec. 36.

Tps. 8 thru 15 S., R. 58 E., unsurveyed.

T. 16 S., R. 58 E., unsurveyed,

Secs. 1 thru 10, 15 thru 22, and 27 thru 34.

T. 17 S., R. 58 E.,

Secs. 1 thru 4;

Sec. 5, NE1/4;

Sec. 9, NE1/4;

Sec. 10, N1/2, N1/2SW1/4, SE1/4SW1/4, and SE1/4;

Secs. 11 and 12;

Sec. 13, NW1/4;

Sec. 14, N1/2, NE1/4SW1/4, and SE1/4;

Sec. 15, NE1/4NE1/4.

Tps. 8 thru 14 S., R. 59 E., unsurveyed.

T. 19 S., R. 62 E.,

Sec. 13, lots 2, 4, and 5, excepting those portions lying within the right-of-way of the Union Pacific Railroad;

Sec. 14, lots 1, 2, 5, 6, and 8, N1/2NE1/4, and NW1/4, excepting those portions lying within the right-of-way of the Union Pacific Railroad;

Sec. 24, SE1/4, excepting those portions lying within the right-of-way of Nevada State Route 604 (Las Vegas Blvd.);

Sec. 25, lot 2.

T. 19 S., R. 63 E.,

Sec. 19, lot 4, SE1/4SW1/4, and SW1/4SE1/4, excepting those portions lying within the right-of-way of Nevada State Route 604 (Las Vegas Blvd.);

Sec. 27, S1/2NW1/4 and SE1/4SE1/4;

Sec. 28, S1/2NE1/4 and SE1/4NW1/4;

Sec. 30, lots 1 and 2, W1/2NE1/4, and E1/2NW1/4.

The area described aggregates approximately 362,678 acres in Clark County, 778,681 acres in Lincoln County, and 1,808,244 acres in Nye County. The total area aggregates approximately 2,949,603 acres.

(Authority: Public Law 106-65 as amended by Public Laws 113-291 and 116-283)

Jon K. Raby,
State Director, Nevada.

[FR Doc. 2021-22587 Filed 10-15-21; 8:45 am]

BILLING CODE 4310-HC-P